DEPARTMENT OF DEFENSE

Office of the Secretary

[Transmittal No. 25-61]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-61 and Policy Justification.

Dated: January 16, 2026.
Stephanie J. Bost,
Alternate OSD Federal Register Liaison Officer, Department of Defense.

BILLING CODE 6001-FR-P

BILLING CODE 6001-FR-C

Transmittal No. 25-61

Notice of Proposed Issuance of Letter of Offer Pursuant to Section 36(b)(1) of the Arms Export Control Act, as amended

(i) Prospective Purchaser: Government of Ukraine

(ii) Total Estimated Value:

Major Defense Equipment * | $ 0
Other | $104 million
TOTAL | $104 million

Funding Source: Foreign Military Financing

(iii) Description and Quantity or Quantities of Articles or Services under Consideration for Purchase: The Government of Ukraine has requested to buy equipment; repair services; and long-term sustainment support for M777 howitzers.

Major Defense Equipment (MDE):

None

Non-MDE:

The following non-MDE items will be included: technical assistance; training; publications; and other related elements of logistics and program support.

(iv) Military Department: Army (UP-B-UDB)

(v) Prior Related Cases, if any: None

(vi) Sales Commission, Fee, etc., Paid, Offered, or Agreed to be Paid: None known at this time

(vii) Sensitivity of Technology Contained in the Defense Article or Defense Services Proposed to be Sold: None

(viii) Date Report Delivered to Congress: August 5, 2025

* as defined in Section 47(6) of the Arms Export Control Act.

POLICY JUSTIFICATION

Ukraine—Equipment, Repair Services, and Sustainment Support for M777 Howitzers

The Government of Ukraine has requested to buy equipment; repair services; and long-term sustainment support for M777 howitzers. The following non-MDE items will be included: technical assistance; training; publications; and other related elements of logistics and program support. The estimated total cost is $104 million.

This proposed sale will support the foreign policy and national security objectives of the United States (U.S.) by improving the security of a partner country that is a force for political stability and economic progress in Europe.

The proposed sale will improve Ukraine's ability to meet current and future threats by further equipping it to conduct self-defense and regional security missions with a more robust local sustainment capability. Ukraine will have no difficulty absorbing these articles and services into its armed forces.

The proposed sale of this equipment and support will not alter the basic military balance in the region.

The principal contractor will be BAE Systems, located in Barrow-in-Furness, England. At this time, the U.S. Government is not aware of any offset agreement proposed in connection with this potential sale. Any offset agreement will be defined in negotiations between the purchaser and the contractor.

Implementation of this proposed sale will not require the assignment of any additional U.S. Government or contractor representatives to Ukraine.

There will be no adverse impact on U.S. defense readiness as a result of this proposed sale.

[FR Doc. 2026-01125 Filed 1-21-26; 8:45 am]

BILLING CODE 6001-FR-P